DEPARTMENT OF HEALTH AND HUMAN SERVICES

Administration for Children and Families

Submission for OMB Review; Comment Request

Title: Community Services Block Grant (CSBG) Model State Plan.

OMB No.: 0970-0382.

Description: Section 676 of the Community Services Block Grant (CSBG) Act requires States, including the District of Columbia and the Commonwealth of Puerto Rico, and U.S. territories applying for CSBG funds to submit an application and plan (Model State Plan). The Model State Plan must meet statutory requirements prior to being funded with CSBG funds. Applicants have the option to submit a detailed plan annually or biannually. Entities that submit a biannual plan must provide an abbreviated plan the following year if substantial changes to the initial plan will occur.

This request is to revise the Model State Plan format for States by automating the form, streamlining the information, and incorporating accountability measures. The revised and automated form may impose an added first-use burden; however, this burden will diminish substantially in subsequent years. Copies of the proposed collection of information/Model State Plan can be obtained by visiting http://www.acf.hhs.gov/programs/ocs/programs/csbg.

Respondents: State Governments, including the District of Columbia and the Commonwealth of Puerto Rico, and U.S. territories.

Annual Burden Estimates
Instrument | Number of respondents | Number of responses per respondent | Average burden hours per response | Total burden hours
Model State Plan | 56 | 1 | 33 | 1,848

Estimated Total Annual Burden Hours: 1,848.

Additional Information

Copies of the proposed collection may be obtained by writing to the Administration for Children and Families, Office of Planning, Research and Evaluation, 370 L'Enfant Promenade SW., Washington, DC 20447, Attn: ACF Reports Clearance Officer. All requests should be identified by the title of the information collection. Email address: infocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
Reports Clearance Officer.

[FR Doc. 2015-12392 Filed 5-21-15; 8:45 am]

BILLING CODE 4184-01-P